ENVIRONMENTAL PROTECTION AGENCY

[EPA-HQ-OPP-2017-0006; FRL-9967-37]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before November 22, 2017.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (BPPD) (7511P), main telephone number: (703) 305-7090; email address: BPPDFRNotices@epa.gov., Michael Goodis, Registration Division (RD) (7505P), main telephone number: (703) 305-7090; email address: RDFRNotices@epa.gov. The mailing address for each contact person is: Office of Pesticide Programs, Environmental Protection Agency, 1200 Pennsylvania Ave. NW., Washington, DC 20460-0001.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petition so that the public has an opportunity to comment on this request for the establishment or modification of regulations for residues of pesticides in or on food commodities. Further information on the petition may be obtained through the petition summary referenced in this unit.

III. Amended Tolerance Exemptions for PIPS

1. PP 7F8566. (EPA-HQ-OPP-2017-0401). Monsanto Company, 800 North Lindbergh Blvd., St. Louis, MO 63167, requests to amend an exemption from the requirement of a tolerance in 40 CFR 174.536 for residues of the plant-incorporated protectant (PIP) Bacillus thuringiensis Cry51Aa2.834_16 protein in or on cotton to change it from a temporary tolerance exemption to a permanent tolerance exemption. The petitioner believes no analytical method is needed because this petition is for a permanent tolerance exemption without numerical limitation; thus, an analytical detection method should not be required. Contact: BPPD.

IV. Amended Tolerances for Non-Inerts

1. PP 7E8559. (EPA-HQ-OPP-2017-0273). Interregional Research Project No. 4 (IR-4), Rutgers, The State University of New Jersey, 500 College Road East, Suite 201 W, Princeton, NJ 08540, proposes upon establishment of tolerances referenced under “New Tolerances” for PP 7E8559, to remove existing tolerances in 40 CFR 180.593 for residues of the miticide etoxazole (2-(2,6-difluorophenyl)-4-[4-(1,1-dimethylethyl)-2-ethoxyphenyl]-4,5-dihydrooxazole), including its metabolites and degradates, to be determined by measuring only etoxazole in or on the commodities; fruit, pome, group 11 at 0.20 ppm; fruit, stone, group 12, except plum at 1.0 ppm; nut, tree, group 14 at 0.01 ppm; cotton, undelinted seed at 0.05 ppm; pistachio at 0.01 ppm; plum at 0.15 ppm; and plum, prune, dried at 0.30 ppm. Adequate analytical methodologies are available in gas chromatography-mass selective detection (GC-MSD) and gas chromatography-nitrogen phosphorus detection (GC-NPD) for detecting and measuring levels of etoxazole in plant and livestock commodities, respectively, are available to enforce proposed tolerances in or on raw agricultural commodities. Contact: RD.

2. PP 7E8564. (EPA-HQ-OPP-2017-0310). IR-4, Rutgers, The State University of New Jersey, 500 College Road East, Suite 201 W, Princeton, NJ 08540, requests to amend the tolerances in 40 CFR 180.589 for residues of the fungicide boscalid,3-pyridinecarboxamide, 2-chloro-N-(4′-chloro[1,1′-biphenyl]-2-yl) by removing the established tolerances in or on Brassica, head and stem, subgroup 5A at 3.0 ppm, brassica, leafy greens, subgroup 5B at 18 ppm, cucumber at 0.5 ppm, leaf petioles subgroup 4B at 45 ppm; leafy greens subgroup 4A, except head lettuce and leaf lettuce at 60 ppm, lettuce, head at 6.5 ppm, lettuce, leaf at 11 ppm, pea and bean, dried shelled, except soybean, subgroup 6C, except cowpea, field pea and grain lupin at 2.5 ppm; pea and bean, succulent shelled, subgroup 6B, except cowpea at 0.6 ppm; turnip, greens at 40 ppm, vegetable, cucurbit group 9, except cucumber at 1.6 ppm, and vegetable, root, subgroup 1A, except sugar beet, garden beet, radish and turnip at 1.0 ppm. Amend 40 CFR part 180.589 by removing the established tolerance for indirect or inadvertent residues of boscalid, 3-pyridinecarboxamide, 2-chloro-N-(4′-chloro[1,1′-biphenyl]-2-yl), in or on beet, garden, roots at 0.1 ppm; cowpea, seed at 0.1 ppm; lupin, grain, grain at 0.1 ppm; pea, field, seed at 0.1 ppm; radish, roots at 0.1 ppm; and turnip, roots at 0.1 ppm. Quantitation is by gas chromatography using mass spectrometry (GC/MS). Contact: RD.

3. PP 7E8569. (EPA-HQ-OPP-2017-0311). IR-4, Rutgers, The State University of New Jersey, 500 College Road East, Suite 201 W, Princeton, NJ 08540, requests to amend the tolerances in 40 CFR 180.582 for residues of the fungicide pyraclostrobin, carbamic acid, [2-[[[ 1-(4-chlorophenyl)-1H-pyrazol-3-yl]oxy] methyl]phenyl]methoxy-, methyl ester) and its desmethoxy metabolite, methyl-N-[[[1-(4-chlorophenyl)-1H-pyrazol-3-yl]oxy]methyl] phenylcarbamate expressed as parent compound by removing the established tolerances in or on avocado at 0.6 ppm, banana at 0.04 ppm, brassica, head and stem, subgroup 5A at 5.0 ppm, brassica leafy greens, subgroup 5B, at 16.0 ppm, and vegetable, leafy, except brassica, group 4 at 29.0 ppm. In plants the method of analysis is aqueous organic solvent extraction, column clean up and quantitation by liquid chromatography with tandem mass spectrometry (LC/MS/MS). Contact: RD.

4. PP 7E8575. (EPA-HQ-OPP-2017-0400). IR-4, Rutgers, The State University of New Jersey, 500 College Road East, Suite 201 W, Princeton, NJ 08540, proposes upon establishment of tolerances referenced under “New Tolerances” for PP 7E8575, to remove existing tolerances in 40 CFR 180.503 for residues of the fungicide cymoxanil, 2-cyano-N-[(ethylamino)carbonyl]-2-(methoxyimino) acetamide, in or on the following food commodities: Cilantro, leaves at 19 parts per million (ppm); leafy greens, subgroup 4A at 19 ppm; leaf petioles, subgroup 4B at 6.0 ppm; potato at 0.05 ppm; and vegetables, fruiting, group 8 at 0.2 ppm. An analytical enforcement method is available for determining cymoxanil residues in plants, i.e., high performance level chromatography (HPLC) with ultraviolet (UV) detection. The method's limit of quantitation is 0.05 ppm and allows monitoring of crops with cymoxanil residues at or above the levels proposed in these tolerances. Contact: RD

5. PP 7E8576. (EPA-HQ-OPP-2017-0397). IR-4, Rutgers, The State University of New Jersey, 500 College Road East, Suite 201 W, Princeton, NJ 08540, proposes upon establishment of tolerances referenced under “New Tolerances” for PP 7E8576, to remove existing tolerances in 40 CFR 180.587 for residues of the fungicide famoxadone (3-anilino-5-methyl-5-(4-phenoxyphenyl)-1,3-oxazolidine-2,4-dione), in or on the raw agricultural commodities: Cilantro, leaves at 25 ppm; potato at 0.02 ppm; vegetable, fruiting, group 8, except tomato at 4.0 ppm; vegetable, leafy, except brassica, group 4, except spinach at 25 ppm. An analytical enforcement method is available for determining famoxadone plant residues in or on a variety of food crops using gas-liquid chromatography (GC) with nitrogen phosphorus detection (NPD). The limit of quantitation (LOQ) is 0.02 ppm for leafy vegetables and green onion, and 0.05 ppm for dry bulb onion. The analytical enforcement method for use on tomato processed fractions and also the raw agricultural commodities (RAC), tomato, utilizes column switching liquid chromatography with UV detection. The LOQ is 0.02 ppm which allows monitoring of crops with famoxadone residues at or above the levels of proposed tolerances. Contact: RD

6. PP 7E8581. (EPA-HQ-OPP-2017-0372). IR-4, Rutgers, The State University of New Jersey, 500 College Road East, Suite 201 W, Princeton, NJ 08540, proposes upon establishment of tolerances referenced above under “New Tolerances” to remove existing tolerances in 40 CFR 180.425 for residues of the herbicide clomazone, 2-[(2-chlorophenyl)methyl]-4,4-dimethyl-3-isoxazolidinone in or on the raw agricultural commodities: Asparagus at 0.05 parts per million (ppm); bean, snap, succulent at 0.05 ppm; brassica, head and stem, subgroup 5A at 0.10 ppm; cotton, undelinted seed at 0.05 ppm; cucumber at 0.1 ppm; pea, southern, dry seed at 0.05 ppm; pea, southern, succulent seed at 0.05 ppm; pumpkin at 0.1 ppm; squash, summer at 0.1 ppm; squash, winter at 0.1 ppm; sweet potato, roots at 0.05 ppm; vegetable, cucurbit, group 9 at 0.05 ppm. An analytical method consisting of an acid reflux, a C18 solid phase extraction (SPE), a Florisil SPE clean-up followed by GC-MSD is available for detecting and measuring levels of clomazone in or on raw agricultural commodities. Contact: RD.

7. PP 7E8585. (EPA-HQ-OPP-2017-659). IR-4, Rutgers, The State University of New Jersey, 500 College Road East, Suite 201 W, Princeton, NJ 08540, proposes, upon establishment of tolerances referenced under “New Tolerances” for PP 7E8585, to remove established tolerances in 40 CFR 180.659 (a) General (1) for residues of the herbicide pyroxasulfone, including its metabolites and degradates, determined by measuring only the sum of pyroxasulfone, 3-[[[5-(difluoromethoxy)-1-methyl-3-(trifluoromethyl)-1H-pyrazol-4-yl]methyl]sulfonyl]-4,5-dihydro-5,5-dimethylisoxazole, and its metabolite, 5-(difluoromethoxy)-1-methyl-3-(trifluoromethyl)-1H-pyrazol-4-carboxylic acid (M-3), calculated as the stoichiometric equivalent of pyroxasulfone, in or on the commodity cotton, undelinted seed at 0.04 ppm. Analytical enforcement methodology including LC/MS/MS is available to enforce the tolerance expression for pyroxasulfone. Contact: RD

V. New Tolerance Exemptions for Inerts (Except PIPS)

1. PP IN-10867. (EPA-HQ-OPP-2017-0374). BASF Corporation, 100 Park Avenue, Florham Park, NJ 07932, requests to establish an exemption from the requirement of a tolerance for residues of N,N-dimethyldodecanamide (CAS Reg. No. 3007-53-2) when used as an inert ingredient (solvent or co-solvent) in pesticide formulations applied to growing crops under 40 CFR 180.920. The petitioner believes no analytical method is needed because it is not required for an exemption from the requirement of a tolerance. Contact: RD.

VI. New Tolerance Exemptions for Non-Inerts (Except PIPS)

1. PP 5E8405. (EPA-HQ-OPP-2017-0335). IR-4, Rutgers, The State University of New Jersey, 500 College Rd. East, Suite 201W, Princeton, NJ 08540, requests to establish an exemption from the requirement of a tolerance in 40 CFR part 180 for residues of the herbicide Pseudomonas fluorescens strain ACK55 in or on all food commodities. The petitioner believes no analytical method is needed because an exemption from the requirement of a tolerance is being proposed. Contact: BPPD.

2. PP 6F8531. (EPA-HQ-OPP-2017-0294). International Animal Health Products Pty. Ltd., 18 Healey Circuit, Huntingwood, New South Wales 2148 Australia (in care of SciReg, Inc., 12733 Director's Loop, Woodbridge, VA 22192), requests to establish an exemption from the requirement of a tolerance in 40 CFR part 180 for residues of the nematocide Duddingtonia flagrans strain IAH 1297 in or on all raw and processed agricultural commodities. The petitioner believes no analytical method is needed because an exemption from the requirement of a tolerance is being proposed. Contact: BPPD.

VII. New Tolerances for Non-Inerts

1. PP 7E8549. (EPA-HQ-OPP-2017-0226). IR-4, Rutgers, The State University of New Jersey, 500 College Road East, Suite 201 W, Princeton, NJ 08540, requests to establish a tolerance in 40 CFR part 180 for residues of the herbicide florasulam N-(2,6-difluorophenyl)-8-fluoro-5-methoxy(1,2,4)triazolo(1,5-c)pyrimidine-2-sulfonamide in or on the raw agricultural commodities teff, forage at 0.05 ppm; teff, grain at 0.01 ppm; teff, straw at 0.05 ppm; and teff, hay at 0.05 ppm. The analytical method uses capillary GC-MSD. Contact: RD.

2. PP 7E8550. (EPA-HQ-OPP-2017-0225). IR-4, Rutgers, The State University of New Jersey, 500 College Road East, Suite 201 W, Princeton, NJ 08540, requests to establish a tolerance in 40 CFR part 180 for residues of the herbicide fluroxypyr 1-methylheptyl ester [1-methylheptyl ((4-amino-3,5-dichloro-6-fluoro-2-pyridinyl)oxy)acetate] and its metabolite fluroxypyr[((4-amino-3,5-dichloro-6-fluoro-2-pyridinyl)oxy)acetic acid] in or on teff, forage at 12.0 ppm; teff, grain at 0.5 ppm; teff, straw at 12.0 ppm; teff, hay at 20.0 ppm. The analytical method uses HPLC with Tandem Mass Spectrometry (MS/MS) with LOQ of 0.01 ppm. Contact: RD.

3. PP 7E8551. (EPA-HQ-OPP-2017-0227). IR-4, Rutgers, The State University of New Jersey, 500 College Road East, Suite 201 W, Princeton, NJ 08540, requests to establish a tolerance in 40 CFR part 180 for residues of the herbicide pyroxsulam, N-(5,7-dimethoxy[1,2,4]triazolo[1,5-a]pyrimidin-2-yl)-2-methoxy-4-(trifluoromethyl)-3-pyridinesulfonamide in or on the raw agricultural commodities teff, forage at 0.06 ppm; teff, grain at 0.01 ppm; teff, straw at 0.03 ppm; and teff, hay at 0.01 ppm. LC/MS/MS detection is used to measure and evaluate the chemical residues. Contact: RD.

4. PP 7E8554. (EPA-HQ-OPP-2017-0352). Dow Agro Sciences LLC, 9330 Zionsville Road, Indianapolis, Indiana 46268-1054, requests to establish import tolerances in 40 CFR part 180.635 for the combined residues of the insecticide spinetoram, expressed as a combination of XDE-175-J: 1-H-as-indaceno[3,2-d]oxacyclododecin-7,15-dione, 2-[(6-deoxy-3-O-ethyl-2,4-di-O-methyl-α-L-mannopyranosyl)oxy]-13-[[(2R,5S,6R)-5-(dimethylamino)tetrahydro-6-methyl-2H-pyran-2-yl] oxy]-9-ethyl-2,3,3a,4,5,5a,5b,6,9,10,11,12,13,14,16a,16b-hexadecahydro 14-methyl-, (2R,3aR,5aR,5bS,9S,13S, 14R,16aS,16bR); XDE-175-L: 1H-as-indaceno[3,2-d]oxacyclododecin-7,15-dione, 2-[(6-deoxy-3-O-ethyl-2,4-di-O-methyl-α-L-mannopyranosyl)oxy]-13-[[(2R,5S,6R)-5-(dimethylamino)tetrahydro-6-methyl-2H-pyran-2-yl]oxy]-9-ethyl-2,3,3a,5a,5b,6,9,10,11, 12,13,14,16a,16b-tetradecahydro-4,14-dimethyl- (2S,3aR,5aS,5bS,9S,13S,14R,16aS, 16bS); ND-J: (2R,3aR,5aR,5bS,9S,13S,14R,16aS,16bR)-9-ethyl-14-methyl-13 [[(2S,5S,6R)-6-methyl-5-(methylamino)tetrahydro-2H-pyran-2-yl]oxy]-7,15-dioxo-2,3,3a,4,5,5a,5b,6,7,9,10,11,12,13,14,15,16a,16b-octadecahydro-1H-as-indaceno[3,2-d]oxacyclododecin-2-yl 6-deoxy-3-O-ethyl-2,4-di-O-methyl-α-L-mannopyranoside; and NF-J: (2R,3S,6S)-6-([(2R,3aR,5aR,5bS,9S,13S,14R,16aS,16bR)-2-[(6-deoxy-3-O-ethyl-2,4-di-O-methyl-α-L-mannopyranosyl) oxy]-9-ethyl-14-methyl-7,15-dioxo-2,3,3a,4,5,5a,5b,6,7,9,10,11,12,13,14,15,16a,16b-octadecahydro-1H-as-indaceno[3,2-d]oxacyclododecin-13-yl]oxy)-2-methyltetrahydro-2H-pyran-3-yl(methyl)formamide in or on tea, dried at 70 ppm and tea, instant at 70 ppm. The EPA has determined adequate tolerance enforcement methods are available for spinetoram residues in a variety of plant and animal matrices including a number of HPLC/Mass Spectrometry (MS) methods. Additional details on the analytical methods can be found in the supporting documentation in docket ID EPA-HQ-OPP-2011-0666-0025. Contact: RD.

5. PP 7E8559. (EPA-HQ-OPP-2017-0273). IR-4, Rutgers, The State University of New Jersey, 500 College Road East, Suite 201 W, Princeton, NJ 08540, requests to establish tolerances in 40 CFR 180.593 for residues of the miticide etoxazole (2-(2,6-difluorophenyl)-4-[4-(1,1-dimethylethyl)-2-ethoxyphenyl]-4,5-dihydrooxazole), including its metabolites and degradates, to be determined by measuring only etoxazole in or on the commodities; corn, sweet, kernel plus cob with husks removed at 0.01 ppm; corn, sweet, forage at 1.5 ppm; corn, sweet, stover at 5.0 ppm; fruit, pome, group 11-10 at 0.20 ppm; nut, tree, group 14-12 at 0.01 ppm; fruit, stone, group 12-12 at 1.0 ppm; and Cottonseed subgroup 20C at 0.05 ppm. Adequate analytical methodology is available in GC-MSD for detecting and measuring levels of etoxazole is available to enforce proposed tolerances in/on the sweet corn commodities. Gas Chromatography with Nitrogen-Phosphorus Detection (GC-NPD) methodology is also available to enforce proposed livestock commodity tolerances. Contact: RD.

6. PP 7E8564. (EPA-HQ-OPP-2017-0310). IR-4, Rutgers, The State University of New Jersey, 500 College Road East, Suite 201 W, Princeton, NJ 08540, requests to establish a tolerance in 40 CFR part 180 for residues of the fungicide boscalid,3-pyridinecarboxamide, 2- chloro-N-(4′-chloro[1,1′-biphenyl] -2-yl) in or on brassica leafy greens subgroup 4-16B at 50 ppm; celtuce at 45 ppm; Florence, fennel at 45 ppm; kohlrabi at 6 ppm; leaf petiole vegetable subgroup 22B at 45 ppm; leafy greens subgroup 4-16A at 70 ppm; pea and bean, dried shelled, except soybean, subgroup 6C at 2.5 ppm; pea and bean, succulent shelled, subgroup 6B at 0.6 ppm; vegetable, brassica head and stem group 5-16 at 6 ppm; vegetable, cucurbit group 9 at 3 ppm; and vegetable root, except sugar beet, subgroup 1B at 2.0 ppm. Quantitation is by GC/MS. Contact: RD.

7. PP 7E8565. (EPA-HQ-OPP-2017-0333). IR-4, Rutgers, The State University of New Jersey, 500 College Road East, Suite 201 W, Princeton, NJ 08540, requests to establish tolerances with regional registrations in 40 CFR 180.568 (c) for residues of the herbicide flumioxazin, 2-[7-fluoro-3,4-dihydro-3-oxo-4-(2-propynyl)-2H-1,4-benzoxazin-6-yl]-4,5,6,7-tetrahydro-1H-isoindole-1,3(2H)-dione, including its metabolites and degradates, determined by measuring only flumioxazin in or on the commodities: Grass, forage at 0.4 ppm and grass, hay at 0.05 ppm. Practical analytical methods for detecting and measuring levels of flumioxazin have been developed and validated in or on all appropriate agricultural commodities and respective processing fractions. The limit of quantitation of flumioxazin in the methods is 0.02 ppm which will allow monitoring and enforcement of residues of the chemical in food commodities. Contact: RD.

8. PP 7E8569. (EPA-HQ-OPP-2017-0311). IR-4, Rutgers, The State University of New Jersey, 500 College Road East, Suite 201 W, Princeton, NJ 08540, requests to establish a tolerance in 40 CFR part 180 for residues of the fungicide pyraclostrobin, carbamic acid, [2-[[[ 1-(4-chlorophenyl)-1H-pyrazol-3-yl]oxy] methyl]phenyl]methoxy-, methyl ester) and its desmethoxy metabolite, methyl-N-[[[1-(4-chlorophenyl)-1H-pyrazol-3-yl]oxy]methyl] phenylcarbamate expressed as parent compound in or on brassica, leafy greens, subgroup 4-16B at 16.0 ppm, celtuce at 29.0 ppm, Florence, fennel at 29.0 ppm, kohlrabi at 5.0 ppm, leaf petiole vegetable subgroup 22B at 29.0 ppm, leafy greens subgroup 4-16A at 40 ppm, tropical and subtropical, medium to large fruit, smooth, inedible peel, subgroup 24B at 0.6 ppm, and vegetable, brassica, head and stem, group 5-16 at 5.0 ppm. In plants the method of analysis is aqueous organic solvent extraction, column clean up and quantitation by LC/MS/MS. Contact: RD.

9. PP 7E8570. (EPA-HQ-OPP-2017-0334). IR-4, Rutgers, The State University of New Jersey, 500 College Road East, Suite 201 W, Princeton, NJ 08540, requests to establish tolerances in 40 CFR 180.659, as follows:

a. Amend 180.659 (a) General. (5) by establishing a tolerance for residues of the herbicide pyroxasulfone, including its metabolites and degradates, determined by measuring only the sum of pyroxasulfone, (3-[(5-difluoromethoxy-1-methyl-3-(trifluoromethyl)pyrazol-4-ylmethylsulfonyl]-4,5-dihydro-5,5-dimethyl-1,2-oxazole), and its metabolites, M-1 (5-difluoromethoxy-1-methyl-3-trifluoromethyl-1H-pyrazol-4-yl) methanesulfonic acid), M-3 (5-difluoromethoxy-1-methyl-3-trifluoromethyl-1H-pyrazol-4-carboxylic acid), M-25 (5-difluoromethoxy-3-trifluoromethyl-1H-pyrazol-4-yl)methanesulfonic acid) and M-28 (3-[1-carboxy-2-(5,5-dimethyl-4,5-dihydroisoxazol-3-ylthio)ethylamino]-3-oxopropanoic acid) calculated as the stoichiometric equivalent of pyroxasulfone, in or on the commodities: Peppermint, oil at 0.48 ppm; peppermint, tops at 0.15 ppm; spearmint, oil at 0.48 ppm; spearmint, tops at 0.15 ppm and soybean, vegetable, succulent at 0.2 ppm.

b. Amend 180.659 (c) Tolerances with regional registrations, by establishing a tolerance for residues of the herbicide pyroxasulfone, including its metabolites and degradates, determined by measuring only the sum of pyroxasulfone, (3-[(5-difluoromethoxy-1-methyl-3-(trifluoromethyl)pyrazol-4-ylmethylsulfonyl]-4,5-dihydro-5,5-dimethyl-1,2-oxazole), and its metabolites, M-1 (5-difluoromethoxy-1-methyl-3-trifluoromethyl-1H-pyrazol-4-yl) methanesulfonic acid), M-3 (5-difluoromethoxy-1-methyl-3-trifluoromethyl-1H-pyrazol-4-carboxylic acid), M-25 (5-difluoromethoxy-3-trifluoromethyl-1H-pyrazol-4-yl)methanesulfonic acid) and M-28 (3-[1-carboxy-2-(5,5-dimethyl-4,5-dihydroisoxazol-3-ylthio)ethylamino]-3-oxopropanoic acid) calculated as the stoichiometric equivalent of pyroxasulfone, in or on the commodities: Grass, forage at 0.5 ppm and grass, hay at 1.0 ppm.

Analytical enforcement methodology including LC/MS/MS is available to enforce the tolerance expression for pyroxasulfone. Contact: RD.

10. PP 7E8575. (EPA-HQ-OPP-2017-0400). IR-4, Rutgers, The State University of New Jersey, 500 College Road East, Suite 201 W, Princeton, NJ 08540, requests to establish tolerances in 40 CFR 180.503, as follows:

a. Amend 40 CFR 180.503 (a) General, by establishing a tolerance for residues of the fungicide cymoxanil, 2-cyano-N-[(ethylamino)carbonyl]-2-(methoxyimino) acetamide, in or on the following food commodities: Carrot, roots at 0.03 ppm; ginseng at 0.02 ppm; mango at 0.02 ppm; brassica, leafy greens, subgroup 4-16B at 15.0 ppm; leafy greens subgroup 4-16A at 19.0 ppm; leaf petiole vegetable subgroup 22B at 6.0 ppm; vegetable, tuberous and corm, subgroup 1C at 0.05 ppm; vegetable, fruiting, group 8-10 at 0.2 ppm; arugula at 19.0 ppm; upland cress at 19.0 ppm; garden cress at 19.0 ppm; celtuce at 6.0 ppm; and Florence, fennel at 6.0 ppm.

b. Amend 40 CFR 180.503 (c) Tolerances with regional registrations by establishing a tolerance for residues of the fungicide cymoxanil, 2-cyano -N- [(ethylamino)carbonyl]-2-(methoxyimino) acetamide, in or on Bean, succulent at 0.05 ppm.

An analytical enforcement method is available for determining cymoxanil residues in plants, i.e., HPLC with UV detection. The method's limit of quantitation is 0.05 ppm and allows monitoring of crops with cymoxanil residues at or above the levels proposed in these tolerances. Contact: RD.

11. PP 7E8576. (EPA-HQ-OPP-2017-0397). IR-4, Rutgers, The State University of New Jersey, 500 College Road East, Suite 201 W, Princeton, NJ 08540, requests to establish tolerances in 40 CFR 180.587, as follows:

a. Amend 40 CFR 180.587 (a) General, by establishing a tolerance for residues of the fungicide famoxadone (3-anilino-5-methyl-5-(4-phenoxyphenyl)-1,3-oxazolidine-2,4-dione), in or on the raw agricultural commodities: Carrot, roots at 0.6 ppm; ginseng at 0.3 ppm; mango at 0.9 ppm; brassica, leafy greens, subgroup 4-16B at 40.0 ppm; vegetable, tuberous and corm, subgroup 1C at 0.02 ppm; vegetable, fruiting, group 8-10, except tomato at 4.0 ppm; leafy greens subgroup 4-16A, except spinach at 25.0 ppm; leaf petiole vegetable subgroup 22B at 25.0 ppm; arugula at 25.0 ppm; upland cress at 25.0 ppm; garden cress at 25.0 ppm; celtuce at 25.0 ppm; and Florence, fennel at 25.0 ppm.

b. Amend 40 CFR 180.587 (c) Tolerances with regional registrations, by establishing a tolerance for residues of the fungicide famoxadone (3-anilino-5-methyl-5-(4-phenoxyphenyl)-1,3-oxazolidine-2,4-dione), in or on the raw agricultural commodities: Bean, succulent at 0.15 ppm.

An analytical enforcement method is available for determining famoxadone plant residues in or on a variety of food crops using GC with NPD. The LOQ is 0.02 ppm for leafy vegetables and green onion and 0.05 ppm for dry bulb onion. The analytical enforcement method for use on tomato processed fractions and also the RAC, tomato, utilizes column switching liquid chromatography with UV detection. The LOQ is 0.02 ppm which allows monitoring of crops with famoxadone residues at or above the levels of proposed tolerances. Contact: RD.

12. PP 7E8579. (EPA-HQ-OPP-2017-0376). IR-4, 500 College Road East, Suite 201 W, Princeton, NJ 08540, requests to establish a tolerance in 40 CFR part 180 for residues of the insecticide acequinocyl, 2-(acetyloxy)-3-dodecyl-1,4-naphthalenedione and its metabolite, 2-dodecyl-3-hydroxy-1,4-naphthoquinone (acequinocyl-OH) expressed as acequinocyl equivalents in or on guava at 0.9 ppm and the tropical and subtropical, small fruit, inedible peel, subgroup 24A at 2.0 ppm. The analytical method to quantitate residues of acequinocyl and acequinocyl-OH in/on fruit crops utilizes HPLC using mass spectrometric (MS/MS) detection. The target LOQ is 0.01 ppm. Contact: RD.

13. PP 7E8580. (EPA-HQ-OPP-2017-0420). IR-4, Rutgers, The State University of New Jersey, 500 College Road East, Suite 201 W, Princeton, NJ 08540, requests to establish a tolerance in 40 CFR part 180 for residues of the herbicide trifluralin α,α,α-trifluoro-2,6-dinitro-N,N-dipropyl-p-toluidine in or on rosemary, fresh leaves at 0.1 ppm; rosemary, dry leaves at 0.1 ppm; and rosemary, oil at 2.18 ppm. The Pesticide Analytical Manual (PAM, Vol. II, Section 180.207) lists four GC methods (designated as Methods I, II, III, and A) with electron capture detection (ECD) and a detection limit of 0.005-0.01 ppm, as available for determination of trifluralin per se in/on plant commodities. Contact: RD.

14. PP 7E8581. (EPA-HQ-OPP-2017-0372). IR-4, Rutgers, The State University of New Jersey, 500 College Road East, Suite 201 W, Princeton, NJ 08540, requests to establish a tolerance in 40 CFR part 180.425 for residues of the herbicide clomazone, 2-[(2-chlorophenyl)methyl]-4,4-dimethyl-3-isoxazolidinone in or on the raw agricultural commodities: Bean, dry at 0.05 ppm; bean, succulent at 0.05 ppm; Chinese, broccoli at 0.10 ppm; cilantro, dried leaves at 0.3 ppm; cilantro, fresh leaves at 0.05 ppm; coriander, seed at 0.05 ppm; cottonseed subgroup 20C at 0.05 ppm; dill, dried leaves at 0.4 ppm; dill, fresh leaves at 0.08 ppm; dill, oil at 0.06 ppm; dill, seed at 0.05 ppm; kohlrabi at 0.10 ppm; rapeseed subgroup 20A at 0.05 ppm; stalk and stem vegetable subgroup 22A, except kohlrabi at 0.05 ppm; vegetable, brassica, head and stem, group 5-16 at 0.10 ppm; vegetable, cucurbit, group 9 at 0.1 ppm. An analytical method consisting of an acid reflux, a C18 SPE, a Florisil SPE clean-up followed by GC-MSD is available for detecting and measuring levels of clomazone in or on raw agricultural commodities. Contact: RD.

15. PP 7E8585. (EPA-HQ-OPP-2017-0334). IR-4, Rutgers, The State University of New Jersey, 500 College Road East, Suite 201 W, Princeton, NJ 08540, requests to establish tolerances in 40 CFR 180.659, as follows:

a. Amend 180.659 (a) General. (1), by establishing a tolerance for residues of the herbicide pyroxasulfone, including its metabolites and degradates, determined by measuring only the sum of pyroxasulfone, 3-[[[5-(difluoromethoxy)-1-methyl-3-(trifluoromethyl)-1H-pyrazol-4-yl]methyl]sulfonyl]-4,5-dihydro-5,5-dimethylisoxazole, and its metabolite, 5-(difluoromethoxy)-1-methyl-3-(trifluoromethyl)-1H-pyrazol-4-carboxylic acid (M-3), calculated as the stoichiometric equivalent of pyroxasulfone, in or on the commodity: Cottonseed subgroup 20C at 0.04 ppm.

b. Amend 180.659 (a) General. (5), by establishing a tolerance for residues of the herbicide pyroxasulfone, including its metabolites and degradates, determined by measuring only the sum of pyroxasulfone, (3-[(5-difluoromethoxy-1-methyl-3-(trifluoromethyl)pyrazol-4-ylmethylsulfonyl]-4,5-dihydro-5,5-dimethyl-1,2-oxazole), and its metabolites, M-1 (5-difluoromethoxy-1-methyl-3-trifluoromethyl-1H-pyrazol-4-yl) methanesulfonic acid), M-3 (5-difluoromethoxy-1-methyl-3-trifluoromethyl-1H-pyrazol-4-carboxylic acid), M-25 (5-difluoromethoxy-3-trifluoromethyl-1H-pyrazol-4-yl)methanesulfonic acid) and M-28 (3-[1-carboxy-2-(5,5-dimethyl-4,5-dihydroisoxazol-3-ylthio)ethylamino]-3-oxopropanoic acid) calculated as the stoichiometric equivalent of pyroxasulfone, in or on the following commodity: Leaf petiole vegetable subgroup 22B at 0.3 ppm.

Analytical enforcement methodology including LC/MS/MS is available to enforce the tolerance expression for pyroxasulfone. Contact: RD.

Authority: 21 U.S.C. 346a.

Dated: September 11, 2017.
Delores Barber,
Director, Information Technology and Resources Management Division, Office of Pesticide Programs.

[FR Doc. 2017-22865 Filed 10-20-17; 8:45 am]

BILLING CODE 6560-50-P